Proclamation 8458 of November 20, 2009

Thanksgiving Day, 2009

By the President of the United States of America

A Proclamation

What began as a harvest celebration between European settlers and indigenous communities nearly four centuries ago has become our cherished tradition of Thanksgiving. This day’s roots are intertwined with those of our Nation, and its history traces the American narrative.

Today, we recall President George Washington, who proclaimed our first national day of public thanksgiving to be observed “by acknowledging with grateful hearts the many and signal favors of Almighty God,” and President Abraham Lincoln, who established our annual Thanksgiving Day to help mend a fractured Nation in the midst of civil war. We also recognize the contributions of Native Americans, who helped the early colonists survive their first harsh winter and continue to strengthen our Nation. From our earliest days of independence, and in times of tragedy and triumph, Americans have come together to celebrate Thanksgiving.

As Americans, we hail from every part of the world. While we observe traditions from every culture, Thanksgiving Day is a unique national tradition we all share. Its spirit binds us together as one people, each of us thankful for our common blessings.

As we gather once again among loved ones, let us also reach out to our neighbors and fellow citizens in need of a helping hand. This is a time for us to renew our bonds with one another, and we can fulfill that commitment by serving our communities and our Nation throughout the year. In doing so, we pay tribute to our country’s men and women in uniform who set an example of service that inspires us all. Let us be guided by the legacy of those who have fought for the freedoms for which we give thanks, and be worthy heirs to the noble tradition of goodwill shown on this day.

NOW, THEREFORE, I, BARACK OBAMA, President of the United States of America, by virtue of the authority vested in me by the Constitution and the laws of the United States, do hereby proclaim Thursday, November 26, 2009, as a National Day of Thanksgiving. I encourage all the people of the United States to come together, whether in our homes, places of worship, community centers, or any place where family, friends and neighbors may gather, with gratitude for all we have received in the past year; to express appreciation to those whose lives enrich our own; and to share our bounty with others.

IN WITNESS WHEREOF, I have hereunto set my hand this twentieth day of November, in the year of our Lord two thousand nine, and of the Independence of the United States of America the two hundred and thirty-fourth.

[FR Doc. E9-28485

Filed 11-24-09; 11:15 am]

Billing code 3195-W0-P